DEPARTMENT OF JUSTICE

Notice of Lodging of Consent Decree Under the Comprehensive Environmental Response, Compensation and Liability Act

Notice is hereby given that on November 20, 2009, a proposed Consent Decree in United States v. Klockner & Klockner Partnership, Joseph S. Klockner, and Daniel Klockner III, Civil Action No. 2:09-cv-05905-FSH-PS, was lodged with the United States District Court for the District of New Jersey.

In this action, the United States seeks, inter alia, injunctive relief and cost recovery with respect to the Klockner Source Area at the Rockaway Borough Well Field Superfund Site (“Site”) in Morris County, New Jersey, under the Comprehensive Environmental Response, Compensation and Liability Act, 42 U.S.C. 9601, et seq. The complaint in this matter alleges that Klockner & Klockner Partnership (“Klockner & Klockner”) was the owner of the Klockner Source Area during a time period when hazardous substances were disposed and released there and is also the current owner of a portion of the Klockner Source Area. The complaint also alleges that Joseph S. Klockner and Daniel Klockner III, as the general partners of Klockner & Klockner, are jointly and severally liable with Klockner & Klockner for the obligations of Klockner & Klockner. The Consent Decree requires Klockner & Klockner, Joseph S. Klockner, and Daniel Klockner III (the “Settling Defendants”) to perform the soil remedy selected for the Klockner Source Area (“Operable Unit Three” for the Site) and reimburse the United States for future response costs relating to the Klockner Source Area. The soil remedy selected for the Klockner Source Area includes soil vapor extraction and excavation and off-site treatment or disposal of soils contaminated with volatile organic compounds or lead at the Klockner Source Area.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Klockner & Klockner Partnership, et al., D.J. Ref. 90-11-3-923/1.

During the public comment period, the Consent Decree may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $47.00 (25 cents per page reproduction costs of Consent Decree and Appendices) payable to the U.S. Treasury or, if by e-mail or fax, forward a check in that amount to the Consent Decree Library at the stated address.

Maureen Katz,
Assistant Chief, Environmental Enforcement Section, Environment and Natural Resources Division.

[FR Doc. E9-28424 Filed 11-25-09; 8:45 am]

BILLING CODE 4410-15-P